DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, SAMHSA will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Protection and Advocacy for Individuals With Mental Illness (PAIMI)—Revised Annual Program Performance Report (PPR)—Office of Management and Budget (OMB) No. 0930-0169—Revision

SAMHSA is requesting approval from the OMB for changes to the Annual PPR, PPR Instructions, and the ACR for the PAIMI program. The OMB clearance for the current 2022-2023 PPR, PPR Instructions, and ACR (0930-0169) will expire on June 30, 2023.

Additionally, SAMHSA is requesting Terms of Clearance from OMB to use the current 2022-2023 PPR, PPR Instructions, and ACR (0930-0169) for the fiscal year (FY) 2023-2024 reporting period due on January 1, 2024. The reasons for this special request are the PAIMI grantees (1) have been serving and tracking PAIMI client statistics for six months of the 2023-2024 reporting period and to require them to adjust the counting, tracking, and documenting of the PAIMI work at this time would create an administrative and excessive burden; (2) need adequate time to update their statistical tracking systems that are used to gather the correct information and obtain training and technical assistance to ensure proper data collection is occurring; and (3) asked SAMHSA to consider not implementing the proposed changes and revisions to the current 2022-2023 PPR, PPR Instructions, and ACR (0930-0169) until the 2023-2024 reporting period due on January 1, 2025.

The protection and advocacy (P&A) systems were established under the Developmental Disabilities Act of 1975 [42 U.S.C. 15001 et seq., as amended in 2000]. The amendments of 2000 require the Secretary of Health and Human Services submit a biennial report on disabilities to the President, Congress, and the National Council on Disability. The Secretary's report is prepared by the Administration on Intellectual and Developmental Disabilities (AIDD), within the Administration on Community Living. The PPR, which includes an ACR, contains information from the PAIMI grantees on the types of activities and services they provided on behalf of PAIMI-eligible individuals. SAMHSA aggregates this information into a biennial summary report that AIDD includes in an appendix to the Secretary's biennial report on disabilities.

The PAIMI Act at 42 U.S.C. 10805(7) requires that each P&A system prepare and transmit a report to the Secretary HHS and to the head of its State mental health agency on January 1. This report describes the activities, accomplishments, and expenditures of the system during the most recently completed fiscal year, including a section prepared by the advisory council (the PAIMI Advisory Council or PAC), that describes the activities of the council and its independent assessment of the operations of the system.

The Protection and Advocacy for Individuals with Mental Illness (PAIMI) Act at 42 U.S.C. 10801 et seq., authorized funds to the same protection and advocacy (P&A) systems created under the Developmental Disabilities Assistance and Bill of Rights Act of 1975, known as the DD Act (as amended in 2000, 42 U.S.C. 15001 et seq.]. The DD Act supports the Protection and Advocacy for Developmental Disabilities (PADD) Program administered by the Administration on Intellectual and Developmental Disabilities (AIDD) within the Administration on Community Living. AIDD is the lead Federal P&A agency. The PAIMI Program supports the same governor-designated P&A systems established under the DD Act by providing legal-based individual and systemic advocacy services to individuals with significant (severe) mental illness (adults) and significant (severe) emotional impairment (children/youth) who are at risk for abuse, neglect and other rights violations while residing in a care or treatment facility.

In 2000, the PAIMI Act amendments created a 57th P&A system—the American Indian Consortium (the Navajo and Hopi Tribes in the Four Corners region of the Southwest). The Act, at 42 U.S.C. 10804(d), states that a P&A system may use its allotment to provide representation to individuals with mental illness, as defined by section 42 U.S.C. 10802 (4)(B)(iii), residing in the community, including their own home, only if the total allotment under this title for any fiscal year is $30 million or more, and in such cases, an eligible P&A system must give priority to representing PAIMI-eligible individuals, as defined by 42 U.S.C. 10802(4)(A) and (B)(i).

The Children's Health Act of 2000 (CHA) also referenced the Ftate P&A system authority to obtain information on incidents of seclusion, restraint, and related deaths [see, CHA, part H at 42 U.S.C. 290ii-1]. PAIMI Program formula grants awarded by SAMHSA go directly to each of the 57 governor-designated P&A systems. These systems are located in each of the 50 States, the District of Columbia, the American Indian Consortium, American Samoa, Guam, the Commonwealth of the Northern Mariana Islands, the Commonwealth of Puerto Rico, and the U.S. Virgin Islands.

The Substance Abuse Mental Health Services Administration (SAMHSA) proposes the following revisions to its annual PAIMI Program Performance Report (PPR), PPR Instructions, and ACR:

1. All questions related to Race; added the following choices of Some other race and Race unknown;

2. All questions related to Gender; added the following choices of Transgender (Trans Woman and Trans Man), Two-Spirit for American Indian/Alaska Native (AIAN), Gender Non-Conforming, Other, and Prefer not to say;

3. All questions related Sexual Orientation; added the following choices of Lesbian or gay, Straight (not lesbian or gay), Bisexual, Other, and Prefer not to say;

4. Demographic Composition of PAIMI Governing Board, Advisory Council and Program Staff; the following was added for clarification, “Transgender is someone whose gender identity is incongruent with their sex assigned at birth. A trans woman or a transgender woman is a woman who was assigned male at birth. A trans man or a transgender man is a man who was assigned female at birth. Two-Spirit is a term by and for Indigenous peoples and is culturally anchored with a particular meaning and, potentially, social status, it is not appropriate for use by non-Indigenous populations. Gender Non-Conforming refers to people who do not follow other people's ideas or stereotypes about how they should look, or act based on the female or male sex they were assigned at birth. Lesbian is a woman who has a romantic and/or sexual orientation toward women. Gay is a man who has a romantic and/or sexual orientation toward men. Straight (not lesbian or gay) is a heterosexual person; someone having a romantic and/or sexual orientation to persons of the opposite sex. Bisexual is an individual who has the capacity to form enduring physical, romantic, and/or emotional attractions to those of the same gender or to those of another gender. Other is someone who does not identified exclusively in one of the categories for gender or sexual orientation and is identified with a different term.”;

5. Number of Mental Health Professionals on the Advisory Council; the following was added for clarification, Other (Identify the professional in the Footnotes);

6. All questions related to Age; added the clarification “would not disclose” to “Prefer not to say”;

7. Gender and Sexual Orientation of PAIMI-eligible Individuals Served; the following was added for clarification, “Enter the number of individuals served by the indicated categories of gender and sexual orientation. Individuals should not be included in more than one of the categories. The total for both tables should be an unduplicated total of persons served based on gender and sexual orientation.”;

8. In the Living Arrangements Section, the following definitions were added in the PPR Instructions for clarification:

Community residential home for children/youth up to 18 yrs.: Group and residential live-in care placement in which staff are trained to work with children and youth whose specific needs are best addressed in a highly structured environment. These placements offer a higher level of structure and supervision than what can be provided in the youth's or child's home. For examples, this includes group homes where youth or children live with each other in a community-based setting, attend local schools and participate in community, cultural and social opportunities; and community-based residential homes that meet the Home and Community Based Services settings rule.

Community residential home for adults: A broad category of community based residential options for adults with serious mental illness, including group homes, supported or supportive housing, and other non-inpatient or institutional settings. For example, this includes community-based supported or supportive homes where staff are trained to work with adults with significant (serious) mental illness.

Non-medical community-based residential facility for children/youth: Facilities where 5 or more unrelated children/youth reside and care, treatment, services are above the level of room and board but less than skilled nursing care. Such care, treatment or services is provided as a primary function of such facility.

Foster care: This arrangement (also known as out-of-home care) is a temporary service provided by States for children who cannot live with their families. Children in foster care may live with relatives or with unrelated foster parents.

Nursing homes, including skilled nursing facilities: Facilities for the residential care of elderly or disabled people. They may also be referred to as care homes or long-term care facilities. Often, the terms have slightly different meanings to indicate whether the institutions are public or private, and whether they provide mostly assisted living, or nursing care and emergency medical care. Nursing homes are used by people who do not need to be in a hospital but cannot be cared for at home.

Intermediate care facilities (ICF): Long term care facilities that provide nursing and supportive care to residents on a non-continuous skilled nursing care basis, under a physician's direction. ICFs are designed to provide custodial care for those who are unable to care for themselves because of mental disability or declining health. ICFs are typically regarded as a lower-level nursing care facility when compared to a skilled nursing facility, but its residents require more care and attention than those in a residential care facility for elderly or an adult residential care facility.

Public and Private general hospital involving emergency rooms: A public hospital is owned and funded by the government. Whereas a private hospital is owned by an individual or group of people.

Public institutional living arrangement: This is a broad category to cover all public institutional living that do not fit into other living arrangement categories. For examples, this includes assisted living facilities, adult homes, residential schools, juvenile justice facilities, and residential care facilities that are owned and funded by the government.

Private institutional living arrangement: This is a broad category to cover all private institutional living that do not fit into other living arrangement categories. For example, this includes assisted living facilities, adult homes, residential schools, juvenile justice facilities, and residential care facilities that are owned by an individual or group of people.

Psychiatric hospitals (public/private): The term “psychiatric hospital” means an institution, which is primarily engaged in providing, by or under the supervisor of a Doctor of Medicine or Osteopathy, psychiatric services for the diagnosis and treatment of individuals with mental illness. Some psychiatric hospitals are designated as “forensic hospitals” to serve individuals who are in the custody of penal authorities.

Jails: Correctional institutions used to detain persons who are in the lawful custody of the government as either accuse person awaiting trial or convicted person serving a sentence. Jails typically refers to smaller, local facilities, in which people are incarcerated for a short period of time.

State prisons: Institutions under State jurisdiction for confinement of persons convicted or serious crimes.

Federal detention centers: Facilities that hold individuals prior to or during court proceedings, as well as those serving brief sentences or ICE immigration detention facilities that house noncitizens to secure their presence for immigration proceedings or removal from the U.S. Another name for the centers is Federal Bureau Prisons.

Federal prisons: Institutions under Federal jurisdiction for confinement of persons convicted or serious crimes.

Veterans' Administration hospital/clinic: Provides primary care, specialized care, and related medical and social support services to American veterans.

Other Federal facility: This includes the Department of Homeland Security (DHS) and Health and Human Services (HHS) facilities used temporarily to house child migrants.

Homeless: An individual with no permanent living arrangement or no fixed place of residence.

Independent (in the community & PAIMI-eligible): This implies the person is living in his or her own home.

Parental or other family home & PAIMI-eligible: Parental home is a home that a child or young adult shares with a parent, guardian; a person acting in the capacity of a parent or guardian; or the home of one's parents or guardians. Other family home is a home maintained by persons biologically related by biology, adoption, marriage, or common law, to a person.

Unknown: Living arrangement was not provided.

9. In the Complaints/Problems of PAIMI-eligible Individuals of Abuse, Neglect, and Rights Violations Section, the following dispositions were added;

e. Other indicators of success or outcomes that resulted from P&A involvement.

h. P&A withdrew due to conflict of interest or other reasons.

10. In Areas of Alleged Rights Violations Section, the following choices were added for clarification;

w. The denial of access to personal possessions

x. Failure to comply with commitment regulations

y. Failure to comply with commitment time frames

11. The choice A/N I—Abuse/Neglect Investigation was added to the Intervention Strategies for clarification;

12. In the Reasons for Closing Individual Advocacy Case File Section, the following choices were either reorganized or added for clarification;

Client's objective was partially or fully met.

Case or investigation lacked merit.

Case withdrawn or terminated by the client.

Issue favorably resolved.

Issue not favorably resolved.

Other success or outcomes due to P&A involvement (i.e., provided self-advocacy assistance)

Other representation found.

Services not needed due to client's death or relocation.

P&A withdrew due to conflict of interest or other reasons (i.e., client would not cooperate).

13. In the Death Investigation Activities Section, the following was added for clarification, “if zero means the P&A did not receive any death reports from CMS for investigation, please note this in the Footnotes”;

14. In the Interventions on behalf of groups of PAIMI-eligible Individuals Section, Group Advocacy the term “non-litigation” was corrected;

15. Changed the Section “End Outcomes of P&A Activities” to “Performance Measures of P&A Activities”; changed the word “Outcome” to “Specific Measures”; either revised or add the following measures for clarification;

(a) PAIMI-eligible individuals who access community-based mental health or health care services that resulted in community integration and independence or are better able to advocate to do so;

(b) PAIMI-eligible individuals who access benefits or services or are better able to advocate to do so;

(c) PAIMI-eligible individuals who live in a healthier, safer, improved, or more integrated settings or are better able to advocate to do so;

(d) PAIMI-eligible individuals are able to stay in their own home or better able to advocate to do so;

(e) PAIMI-eligible individuals who can secure or maintain employment and/or are not subject to workplace discrimination or are better able to advocate for to do so;

(f) PAIMI-eligible individuals who receive appropriate educational services and supports and/or are not subject to discrimination in educational settings or are better able to advocate for those outcomes;

(g) PAIMI-eligible individuals who go to school in safe and more humane conditions;

(h) PAIMI-eligible children (individuals) who receive appropriate services in the most integrated settings;

(i) PAIMI-eligible individuals who were not subject to discrimination in government benefits/services, housing, public accommodations, etc. or are better able to advocate for such outcomes;

(j) PAIMI-eligible individuals who were not subject to abuse, neglect, or rights violations or are better able to advocate for to do so;

(k) PAIMI-eligible individuals who can make their own decisions to the maximum extent feasible or are better able to advocate to do so;

(l) PAIMI-eligible individuals who had their rights enforced, retained, restored and/or expanded or are better able to advocate for to do so; and

(m) PAIMI-eligible individuals who were more able to participate in the voting process or are better able to advocate for to do so.

16. Tables and instructions were added the Budget Section for clarification; and

17. In the Statement of Priorities (Goals) Section, removed the words “Expected Target” and revised the following information for clarification:

Report on Previous FY Statement of Priorities and Objectives (SPO)

The Priority and Objectives target population and expected outcome fields will be pre-populated by the information submitted with the PAIMI application. The number of pre-populated items will reflect the number submitted in the application. A. Please indicate an actual outcome for each expected outcome. B. Please indicate strategies to implement goals and priorities. C. Provide a narrative (500-word limit) of P&A activities for each of the accomplishments related to each priority. D. Other Qualitative Narrative related to each priority: Provide a narrative (500 words limit) of significant activity for which there were no quantifiable results.

The current report formats will be effective for the FY 2023 PPR reports due on January 1, 2024.

Estimates of Annualized Hour Burden

The estimated annual burden for the PAIMI Annual PPR is summarized below:

| Number of respondents | Number of responses per respondent | Hours per response | Total hour burden
Program Performance Report | 57 | 1 | 20 | 1,140
Advisory Council Report | 57 | 1 | 10 | 570
Total | 114 |  |  | 1,710
* Based on past estimates and the fact that changes being made do not measurably impact response burden.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-12460 Filed 6-9-23; 8:45 am]

BILLING CODE 4162-20-P